DEPARTMENT OF THE TREASURY

Submission for OMB Review; Comment Request

September 12, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 21, 2002 to be assured of consideration.

Internal Revenue Service (IRS)

OMB Number: 1545-1027.

Form Number: IRS Form 1120-PC.

Type of Review: Revision.

Title: U.S. Property and Casualty Insurance Company Income Tax Return.

Description: Property and casualty insurance companies are required to file an annual return of income and pay the tax due. The data is used to insure that companies have correctly reported income and paid the correct tax.

Respondents: Business or other for-profit.

Estimated Number of Respondents/Recordkeepers: 2,200.

Estimated Burden Hours Per Respondent/Recordkeeper:

Recordkeeping—93 hr., 59 min.

Learning about the law or the form—34 hr., 25 min.

Preparing the form—57 hr., 57 min.

Copying, assembling, and sending the form to the IRS—5 hr., 54 min.

Frequency of Response: Annually.

Estimated Total Reporting/Recordkeeping Burden: 422,950 hours.

OMB Number: 1545-1028.

Regulation Project Number: INTL-941-86 NPRM and INTL-655-87 Temporary.

Type of Review: Extension.

Title: Passive Foreign Investment Companies.

Description: These regulations specify how U.S. persons who are shareholders of passive foreign investment companies (PFICs) make elections with respect to their PFIC stock.

Respondents: Business or other for-profit.

Estimated Number of Respondents: 275,000.

Estimated Burden Hours Per Respondent: 25 minutes.

Frequency of Response: Annually, Other (one-time only).

Estimated Total Reporting Burden: 112,500 hours.

OMB Number: 1545-1424.

Form Number: IRS Form 1099-C.

Type of Review: Extension.

Title: Cancellation of Debt.

Description: Form 1099-C is used for reporting canceled debt, as required by section 6050P of the Internal Revenue Code. It is used to verify that debtors are correctly reporting their income.

Respondents: Business or other for-profit, Not-for-profit institutions, Federal Government.

Estimated Number of Respondents: 647,993.

Estimated Burden Hours Per Respondent: 10 minutes.

Frequency of Response: Monthly, Annually.

Estimated Total Reporting Burden: 110,159 hours.

OMB Number: 1545-1661.

Regulation Project Number: REG-106010-98 Final.

Type of Review: Extension.

Title: Qualified Lessee Construction Allowances for Short-term Leases.

Description: The regulations provide guidance with respect to § 110, which provides a safe harbor whereby it will be assumed that a construction allowance provided by a lessor to a lessee is used to construct or improve lessor property when long-term property is constructed or improved and used pursuant to a short-term lease. The regulations also provide a reporting requirement that ensures that both the lessee and lessor consistently treat the property subject to the construction allowance as a nonresidential real property owned by the lessor.

Respondents: Business or other for-profit.

Estimated Number of Respondents: 10,000.

Estimated Burden Hours Per Respondent: 1 hour.

Frequency of Response: Annually.

Estimated Total Reporting Burden: 10,000 hours.

OMB Number: 1545-1793.

Revenue Procedure Number: Revenue Procedure 2002-43.

Type of Review: Extension.

Title: Determination of Substitute Agent for a Consolidated Group.

Description: The information is needed in order for (i) a terminating common parent of a consolidated group to notify the IRS that it will terminate and to designate another corporation to be the group's substitute agent, pursuant to Treasury Regulation § 1.1502-77(d)(1) or § 1.1502-77A(d); (ii) the remaining members of a consolidated group to designate a substitute agent pursuant to § 1.1502-77A(d); (iii) the default substitute agent to notify the IRS that it is the default substitute agent pursuant to § 1.1502-77(d)(2); or (iv) requests by a member of the group for the IRS to designate a substitute agent or replace a previously designated substitute agent. The IRS will use the information to determine whether to approve the designation (if approval is required), to designate a substitute agent, or to replace a substitute agent, and to change the IRS's records to reflect the name and other information about the substitute agent.

Respondents: Business or other for-profit.

Estimated Number of Respondents: 200.

Estimated Burden Hours Per Respondent: 2 hours.

Frequency of Response: On occasion.

Estimated Total Reporting Burden: 400 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports Management Officer.

[FR Doc. 02-23781 Filed 9-18-02; 8:45 am]

BILLING CODE 4830-01-P